SECURITIES AND EXCHANGE COMMISSION

[Release No. IC-28567]

Notice of Applications for Deregistration Under Section 8(f) of the Investment Company Act of 1940

December 19, 2008.

The following is a notice of applications for deregistration under section 8(f) of the Investment Company Act of 1940 for the month of December 2008. A copy of each application may be obtained for a fee at the Commission's Public Reference Room, 100 F Street NE., Washington, DC 20549-1520 (tel. 202-551-5850). An order granting each application will be issued unless the SEC orders a hearing. Interested persons may request a hearing on any application by writing to the SEC's Secretary at the address below and serving the relevant applicant with a copy of the request, personally or by mail. Hearing requests should be received by the SEC by 5:30 p.m. on January 13, 2009, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

BlackRock Technology Fund, Inc. [File No. 811-8721]

Summary: Applicant seeks an order declaring that it has ceased to be an investment company. On September 15, 2008, applicant transferred its assets to BlackRock Global Science & Technology Opportunities Portfolio, a series of BlackRock Funds℠, based on net asset value. Expenses of $487,556 incurred in connection with the reorganization were paid by BlackRock Advisors, LLC, applicant's investment adviser, or its affiliates.

Filing Date: The application was filed on November 12, 2008.

Applicant's Address: 800 Scudders Mill Rd., Plainsboro, NJ 08536.

MuniDividend Insured Fund, Inc. [File No. 811-21062]; MuniHoldings Fund III, Inc. [File No. 811-21626]; MuniHoldings California Fund, Inc. [File No. 811-21627]

Summary: Applicants, each a closed-end investment company, seek an order declaring that they have ceased to be investment companies. Applicants have never made a public offering of their securities and do not propose to make a public offering or engage in business of any kind.

Filing Date: The applications were filed on November 5, 2008.

Applicants' Address: BlackRock Inc., 800 Scudders Mill Rd., Plainsboro, NJ 08536.

BlackRock Enhanced Equity Yield Fund, Inc. [File No. 811-21722]; BlackRock Enhanced Equity Yield & Premium Fund, Inc. [File No. 811-21755]

Summary: Applicants, each a closed-end investment company, seek an order declaring that they have ceased to be investment companies. On November 3, 2008, each applicant transferred its assets to BlackRock Enhanced Capital and Income Fund, Inc., based on net asset value. Expenses of $289,026 and $267,780, respectively, incurred in connection with the reorganizations were paid by each applicant.

Filing Date: The applications were filed on November 19, 2008.

Applicants' Address: 100 Bellevue Parkway, Wilmington, DE 19809.

Mezzacappa Partners, LLC [File No. 811-21752]

Summary: Applicant, a closed-end investment company, seeks an order declaring that it has ceased to be an investment company. Between January 24, 2008 and December 3, 2008, applicant made liquidating distributions to its shareholders, based on net asset value. Expenses of approximately $350,000 incurred in connection with the liquidation were paid by applicant. Applicant has retained $200,000 in cash and trade receivables to pay remaining outstanding expenses.

Filing Dates: The application was filed on September 3, 2008, and amended on December 3, 2008.

Applicant's Address: c/o Mezzacappa Management, LLC, 630 Fifth Ave., Suite 2600, New York, NY 10111.

Ameristock ETF Trust [File No. 811-21941]

Summary: Applicant seeks an order declaring that it has ceased to be an investment company. On August 22, 2008, applicant made a final liquidating distribution to its shareholders, based on net asset value. Expenses of $82,245 incurred in connection with the liquidation were paid by Ameristock Corporation, applicant's investment adviser.

Filing Dates: The application was filed on October 14, 2008, and amended on December 1, 2008.

Applicant's Address: 1320 Harbor Bay Parkway, Suite 145, Alameda, CA 94502.

Fortis Growth Fund Inc. [File No. 811-848]; Fortis Income Portfolios Inc. [File No. 811-2341]; Fortis Money Portfolios Inc. [File No. 811-2943]; Fortis Tax-Free Portfolios Inc. [File No. 811-3498]; Fortis Advantage Portfolios Inc. [File No. 811-5355]; Fortis Worldwide Portfolios Inc. [File No. 811-6297]

Summary: Each applicant seeks an order declaring that it has ceased to be an investment company. On February 15, 2002, each applicant transferred its assets to The Hartford Mutual Funds II, Inc., based on net asset value. Applicants incurred no expenses in connection with the reorganizations.

Filing Dates: The application was filed on July 8, 2008, and amended on September 30, 2008, and November 11, 2008.

Applicants' Address: PO Box 2999, Hartford, CT 06104-2999.

Enterprise Accumulation Trust [File No. 811-5543]

Summary: Applicant seeks an order declaring that it has ceased to be an investment company. Shareholders approved the merger of applicant's fund on June 28, 2004, and applicant distributed its assets on July 9, 2004. The fund surviving the merger is EQ Advisors Trust. AXA Equitable Life Insurance Company and MONY Life Insurance Company paid the $968,124 incurred in connection with the merger.

Filing Date: The application was filed on February 9, 2006.

Applicant's Address: Atlanta Financial Center, 3343 Peachtree Road, NE., Suite 450, Atlanta, Georgia 30326-1022.

Variable Investment Trust [File No. 811-8392]

Summary: Applicant seeks an order declaring that it has ceased to be an investment company. Applicant requests deregistration based on abandonment of registration. At the time of filing, applicant had no shareholders and thus qualified for an exclusion from the definition of “investment company” in Section 3(c)(1) of the 1940 Act.

Filing Dates: The application was filed on June 30, 2008, and amended and restated on December 1, 2008.

Applicant's Address: 3001 Summer Street, Stamford, Connecticut 06904.

The American Separate Account 5 [File No. 811-10409]

Summary: Applicant, a unit investment trust, seeks an order declaring that it has ceased to be an investment company as part of a liquidation. Applicant has distributed all of its assets to the fund's shareholders, has no assets or liabilities, and has incurred no expenses in connection with the liquidation. Applicant is not now engaged, nor does it intend to engage, in any business activities other than those necessary for winding up its affairs.

Filing Date: The application was filed on August 8, 2008.

Applicant's Address: 6 International Drive, Suite 190, Rye Brook, NY 10573.

For the Commission, by the Division of Investment Management, pursuant to delegated authority.
Florence E. Harmon,
Acting Secretary.

[FR Doc. E8-30855 Filed 12-29-08; 8:45 am]

BILLING CODE 8011-01-P